DEPARTMENT OF ENERGY

Office of Energy Efficiency and Renewable Energy

[Case No. CAC-012]

Energy Conservation Program for Consumer Products: Notice of Correction of Petition for Waiver and Interim Waiver of Mitsubishi Electric From the DOE Residential and Commercial Package Air Conditioner and Heat Pump Test Procedures, and Modification of Interim Waiver

AGENCY: Office of Energy Efficiency and Renewable Energy, Department of Energy.

ACTION: Notice of correction of interim waiver.

SUMMARY: Today's notice corrects five minor errors in the list of model numbers for which Mitsubishi Electric & Electronics USA, Inc. (“MEUS”) requested a waiver and interim waiver of the test procedures applicable to residential and commercial package air conditioners and heat pumps.

FOR FURTHER INFORMATION CONTACT: Dr. Michael G. Raymond, U.S. Department of Energy, Office of Energy Efficiency and Renewable Energy, Building Technologies Program, Mail Stop EE-2J, Forrestal Building, 1000 Independence Avenue, SW., Washington, DC 20585-0121, (202) 586-9611; e-mail: Michael.Raymond.ee.doe.gov; or Francine Pinto, Esq., U.S. Department of Energy, Office of General Counsel, Mail Stop GC-72, Forrestal Building, 1000 Independence Avenue, SW., Washington, DC 20585-0121, (202) 586-9507; e-mail: Francine.Pinto@hq.doe.gov.

SUPPLEMENTARY INFORMATION:

I. Background and Authority

II. Corrected Petition for Waiver of Test Procedure and Application for Interim Waiver

III. Discussion

I. Background and Authority

Title III of the Energy Policy and Conservation Act (EPCA) sets forth a variety of provisions concerning energy efficiency. Part B of Title III (42 U.S.C. 6291-6309) provides for the ”Energy Conservation Program for Consumer Products other than Automobiles.” Part C of Title III (42 U.S.C. 6311-6317) provides for an energy efficiency program entitled ”Certain Industrial Equipment,” which is similar to the program in part B, and which includes commercial air-conditioning equipment, packaged boilers, water heaters, and other types of commercial equipment.

Both parts specifically provide for definitions, test procedures, labeling provisions, energy conservation standards, and the authority to require information and reports from manufacturers. With respect to test procedures, both parts generally authorize the Secretary of Energy to prescribe test procedures that are reasonably designed to produce results which reflect energy efficiency, energy use and estimated operating costs, and that are not unduly burdensome to conduct. (42 U.S.C. 6293(b)(3), 6314(a)(2)) EPCA provides that the Secretary of Energy may amend test procedures for consumer products if the Secretary determines that amended test procedures would more accurately reflect energy efficiency, energy use and estimated operating costs, and are not unduly burdensome to conduct. (42 U.S.C. 6293(b))

The Department's regulations contain provisions allowing a person to seek a waiver from the test procedure requirements for covered consumer products (10 CFR 430.27). The waiver provisions allow the Assistant Secretary for Energy Efficiency and Renewable Energy (hereafter “Assistant Secretary”) to temporarily waive test procedures for a particular basic model when a petitioner shows that the basic model contains one or more design characteristics that prevent testing according to the prescribed test procedures, or when the prescribed test procedures may evaluate the basic model in a manner so unrepresentative of its true energy consumption as to provide materially inaccurate comparative data. (10 CFR 430.27 (a)(1)) The Assistant Secretary may grant the waiver subject to conditions, including adherence to alternate test procedures. Petitioners are to include in their petition any alternate test procedures known to evaluate the basic model in a manner representative of its energy consumption. (10 CFR 430.27(b)(1)(iii)) Waivers generally remain in effect until final test procedure amendments become effective, thereby resolving the problem that is the subject of the waiver.

The waiver process also allows the Assistant Secretary to grant an Interim Waiver from test procedure requirements to manufacturers that have petitioned the Department for a waiver of such prescribed test procedures. (10 CFR 430.27(a)(2)) An Interim Waiver remains in effect for a period of 180 days or until the Department issues its determination on the Petition for Waiver, whichever is sooner, and may be extended for an additional 180 days, if necessary. (10 CFR 430.27(h))

On November 7, 2005, MEUS filed an Application for Interim Waiver and Petition for Waiver (“Initial Petition”) from the test procedures applicable to its R410A models of the CITY MULTI Variable Refrigerant Flow Zoning (“VRFZ”) line of residential and commercial package air conditioning and heating equipment. The applicable test procedures for residential air-conditioning and heating equipment are found in 10 CFR part 430, subpart B, Appendix M; EPCA requires DOE to base its test procedures for similar commercial equipment on industry test standards. See 42 U.S.C. 6314(a)(4)(A). In particular, MEUS requested a waiver from the residential test procedures contained in 10 CFR part 430, subpart B, Appendix M, and a waiver from the commercial test procedures contained in Air-Conditioning and Refrigeration Institute (ARI) Standard 210/240-2003 and in ARI Standard 340/360-2000. MEUS seeks a waiver from the applicable test procedures because, MEUS asserts, the design characteristics of the R410A systems prevent testing according to the currently prescribed test procedures.

On March 24, 2006, the Department of Energy (hereafter “Department” or “DOE”) published MEUS's Petition for Waiver and granted the Application for Interim Waiver.¹ On April 11, 2006, MEUS submitted a Corrected Petition for Waiver of Test Procedure and Application for Interim Waiver (“Corrected Petition”) to DOE. The Corrected Petition noted five minor errors in the list of model numbers for which the waiver and the interim waiver had been requested. MEUS requested that the interim waiver granted apply to the corrected list of model numbers, and that DOE use the corrected list of model numbers in any future actions regarding the Petition for Test Procedure Waiver.

¹ Energy Conservation Program for Consumer Products: Publication of the Petition for Waiver and Granting of the Application for Interim Waiver of Mitsubishi Electric From the DOE Residential and Commercial Package Air Conditioner and Heat Pump Test Procedures (Case No. CAC-012), 71 Fed. Reg. 14858 (Mar. 24, 2006) (hereinafter, Publication).

II. Corrected Petition for Waiver of Test Procedure and Application for Interim Waiver

In the Corrected Petition, MEUS states that four of the corrections relate to typographical errors in the initial filing. In the list of models provided in MEUS's Initial Petition, MEUS inadvertently listed the PFFY Series Floor Standing model numbers as “PEFY” instead of “PFFY,” and inadvertently listed the PLFY and PMFY series model numbers as “PEFY “ instead of “PLFY” and “PMFY.” MEUS requests that on page 4 of the Initial Petition, four model numbers should be revised as follows:

• The “PFFY Series—Floor Standing (Concealed)—PEFY-P06/08/12/15/18/24***-*” listing should be revised to read, “PFFY Series—Floor Standing (Concealed)—PFFY-P06/08/12/15/18/24***-*”;

• The “PFFY Series—Floor Standing (Exposed)—PEFY-P06/08/12/15/18/24***-*” listing should be revised to read, “PFFY Series—Floor Standing (Exposed)—PFFY-P06/08/12/15/18/24***-*”;

• The “PLFY Series—4-Way Airflow Ceiling Cassette—PEFY-P12/18/24/30/36***-*” listing should be revised to read, “PLFY Series—4-Way Airflow Ceiling Cassette—PLFY-P12/18/24/30/36***-*,” and

• The “PMFY Series—1-Way Airflow Ceiling Cassette—PEFY-P06/08/12/15***-*” listing should be revised to read, “PMFY Series—1-Way Airflow Ceiling Cassette—PMFY-P06/08/12/15***-*.”

According to MEUS, the fifth correction reflects an updated model number designation. At the time MEUS submitted its Initial Petition, MEUS anticipated that the model number for the CITY MULTI Variable Refrigerant Flow Zoning System S-Series Outdoor Equipment would be PUMY-P48TGMU-*. The actual model number designation for its S-Series products was, however, PUMY-P48NHMU-*. MEUS states that this change in designation does not reflect any physical or technical changes in the S-Series; the update is purely notational. Thus, MEUS requests that the model number for the S-Series on page 4 of the Initial Petition be changed from “PUMY-P48TGMU-*, 48,000 Btu/h, 208/230-1-60 split-system variable-speed heat pump” to “PUMY-P48NHMU-*, 48,000 Btu/h, 208/230-1-60 split-system variable-speed heat pump.”

MEUS asserts that the corrections do not reflect any physical or technical changes in the models listed in MEUS's Initial Petition. The corrections simply address four typographical errors and update a notation in model designation. Therefore, MEUS requests that the interim waiver granted on March 24, 2006, should be interpreted to apply to the models listed in the Corrected Petition. In addition, MEUS requests that DOE use the corrected list of model numbers in any future action on the Petition for Test Procedure Waiver.

III. Discussion

The Department has reviewed MEUS's Initial Petition and its request to correct five minor errors in the list of model numbers for which MEUS requested the waiver and interim waiver. The requested corrections do not reflect any physical or technical changes in the models listed in MEUS's Initial Petition. The corrections simply address four typographical errors and update a notation in model designation. Given that the corrections do not represent a request for coverage of additional or different products, and do not change in any way the basis for granting the interim waiver, DOE finds that it is appropriate that the interim waiver granted on March 24, 2006, apply to the models listed in the Corrected Petition. DOE thus clarifies that the March 24, 2006, interim waiver applies to the models listed in the Corrected Petition, and DOE will use the corrected list of model numbers in any future action on the pending Petition for Test Procedure Waiver.

Issued in Washington, DC, on July 31, 2006.
Alexander A. Karsner,
Assistant Secretary, Energy Efficiency and Renewable Energy.

[FR Doc. E6-12851 Filed 8-7-06; 8:45 am]

BILLING CODE 6450-01-P